DEPARTMENT OF THE INTERIOR

Bureau of Land Management

[AK-(962)-1410-HY-P]

Alaska: Notice for Publication, F-14908-B; Alaska Native Claims Selection

In accordance with Departmental regulation 43 CFR 2650.7(d), notice is hereby given that the modified decision to issue conveyance to Sitnasuak Native Corporation, notice of which was published in the Federal Register on October 22, 1999, is hereby vacated in part.

A notice, of the modified decision being vacated in part, will be published once a week, for four (4) consecutive weeks, in the Nome Nugget. Copies of the decision may be obtained by contacting the Alaska State Office of the Bureau of Land Management, 222 West Seventh Avenue, #13, Anchorage, Alaska 99513-7599.

Any party claiming a property interest which is adversely affected by the decision, an agency of the Federal government, or regional corporation, shall have until July 3, 2000 to file an appeal on the issues in the modified DIC. However, parties receiving service by certified mail shall have 30 days from the date of receipt to file an appeal. Appeals must be filed in the Bureau of Land Management at the address identified above, where the requirements for filing an appeal may be obtained. Parties who do not file an appeal in accordance with the requirements in 43 CFR part 4, subpart E, shall be deemed to have waived their rights.

Except as vacated in part, the modified decision, notice of which was given October 22, 1999, is final.

Jane Miller,
Land Law Examiner, Branch of ANCSA Adjudication.

[FR Doc. 00-13658 Filed 5-31-00; 8:45 am]

BILLING CODE 4310-$$-P